DEPARTMENT OF THE INTERIOR

Fish and Wildlife Service

50 CFR Part 17

RIN 1018-AT57

Endangered and Threatened Wildlife and Plants; Reopening of the Public Comment Period and Notice of Public Hearings for the Proposed Designation of Critical Habitat for the Santa Ana Sucker

AGENCY: Fish and Wildlife Service, Interior.

ACTION: Proposed rule; reopening of public comment period and notice of public hearings.

SUMMARY: We, the U.S. Fish and Wildlife Service (Service), announce that we are reopening a 30-day public comment period and holding public hearings on the proposed designation of critical habitat for the Santa Ana sucker (Catostomus santaanae). Comments previously submitted on the February 26, 2004, proposed rule (69 FR 8911) need not be resubmitted as they have been incorporated into the public record and will be fully considered in the final decision.

DATES: The public comment period for this proposed designation of critical habitat is now reopened, and we will accept comments and information until 5 p.m. PST on September 20, 2004.

The public hearings on the proposed designation will be held on September 9, 2004, from 1 p.m. to 3 p.m. and from 6 p.m. to 8 p.m. in Pasadena, California.

ADDRESSES: The public hearings will be held at the Pasadena Hilton, 168 S. Los Robles Ave., Pasadena, California.

Written comments and materials may be submitted to us by one of the following methods:

1. You may submit written comments and information to the Field Supervisor, Carlsbad Fish and Wildlife Office, 6010 Hidden Valley Road, Carlsbad, California 92009.

2. You may hand-deliver written comments and information to our Carlsbad Fish and Wildlife Office at the above address, or fax your comments to (760) 431-9618.

3. You may send comments by electronic mail (e-mail) to fw1sasu@r1.fws.gov. Please see the Public Comments Solicited section below for file format and other information about electronic filing.

Comments and materials received, as well as supporting documentation used in preparation of the proposed critical habitat rule for the Santa Ana sucker will be available for public inspection, by appointment, during normal business hours at the above address. Any comments received after the closing date may not be considered in the final decisions on this action. You may obtain copies of the proposed critical habitat designation by contacting the Carlsbad Fish and Wildlife Office at the above address.

FOR FURTHER INFORMATION CONTACT: Mr. Jim Bartel, Field Supervisor, Carlsbad Fish and Wildlife Office, at the above address (telephone (760) 431-9440; facsimile (760) 431-9618).

SUPPLEMENTARY INFORMATION:

Public Comments Solicited

We solicit comments or suggestions from the public, other concerned governmental agencies, Tribes, the scientific community, industry, or any other interested parties concerning our proposed designation of critical habitat for the Santa Ana sucker. We particularly seek comments concerning:

(1) The reasons why any habitat should or should not be determined to be critical habitat as provided by section 4 of the Act, including whether the benefit of designation will outweigh any threats to the species due to designation;

(2) Specific information on the amount and distribution of Santa Ana sucker habitat, and what habitat is essential to the conservation of the species and why;

(3) Land use designations and current or planned activities in the subject areas and their possible impacts on proposed critical habitat;

(4) Any foreseeable economic, national security, or other potential impacts resulting from the proposed designation and, in particular, any impacts on small entities; and

(5) Whether our approach to designating critical habitat could be improved or modified in any way to provide for greater public participation and understanding, or to assist us in accommodating public concerns and comments.

If you wish to comment, you may submit your comments and materials concerning this rule by any one of several methods (see ADDRESSES section). Please submit Internet comments to fw1sasu@r1.fws.gov in ASCII file format and avoid the use of special characters or any form of encryption. Please also include “Attn: Santa Ana Sucker Critical Habitat” in your e-mail subject header and your name and return address in the body of your message. If you do not receive a confirmation from the system that we have received your Internet message, contact us directly by calling our Carlsbad Fish and Wildlife Office (see FOR FURTHER INFORMATION CONTACT section).

Our practice is to make comments, including names and home addresses of respondents, available for public review during regular business hours. Individual respondents may request that we withhold their home address, which we will honor to the extent allowable by law. There also may be circumstances in which we would withhold a respondent's identity, as allowable by law. If you wish us to withhold your name and/or address, you must state this prominently at the beginning of your comments. However, we will not consider anonymous comments. To the extent consistent with applicable law, we will make all submissions from organizations or businesses, and from individuals identifying themselves as representatives or officials of organizations or businesses, available for public inspection in their entirety.

Public Hearings

Anyone wishing to make an oral statement for the record is encouraged to provide a written copy of their statement and present it to us at the hearings. In the event there is a large attendance, the time allotted for oral statements may be limited. Oral and written statements receive equal consideration. There are no limits on the length of written comments submitted to us. If you have any questions concerning the public hearings, please contact the Carlsbad Fish and Wildlife Office (see ADDRESSES above). This notice is being published in the Federal Register to provide the public and interested parties with a minimum of 15 days' notification about the public hearings.

Persons needing reasonable accommodations in order to attend and participate in the public hearings should contact Patti Carroll at (503) 231-2080 as soon as possible. In order to allow sufficient time to process requests, please call no later than one week before the hearing date. Information regarding this proposal is available in alternative formats upon requests.

Background

On February 26, 2004, we concurrently published in the Federal Register a final rule and a proposed rule to designate critical habitat for the Santa Ana sucker (69 FR 8839; 69 FR 8911). In order to comply with the designation deadline established by the district court, we were unable to open a public comment period, hold a public hearing, or complete an economic analysis of the final rule. Please refer to the final rule (69 FR 8839) for a complete explanation of our reasons for dispensing with the notice and comment procedures generally required under the Administrative Procedure Act.

However, we fully recognize the value and importance of public input in developing a critical habitat designation for the Santa Ana sucker. Therefore, in order to allow members of the public an opportunity to comment on the critical habitat designation for the Santa Ana sucker, and to enable the Service to seek peer review of such designation, and to complete and circulate for public review an economic analysis of critical habitat designation, we published and solicited comment on a proposed rule (69 FR 8911) to designate critical habitat for the Santa Ana sucker on approximately 21,129 acres (ac) (8,550 hectares (ha)) of land in Los Angeles and San Bernardino counties. The original comment period on the proposed rule closed on April 26, 2004.

Section 4(b)(5)(E) of the Act (16 U.S.C. 1531 et seq.) requires that a public hearing be held if it is requested within 45 days of the publication of a proposed rule. In response to several requests for a public hearing from citizens concerned with the designation of critical habitat in the Angeles National Forest, we will conduct public hearings on the date and at the address described in the DATES and ADDRESSES sections above.

Author

The primary authors of this notice are the staff of the Carlsbad Fish and Wildlife office (see ADDRESSES section).

Authority

The authority for this action is the Endangered Species Act of 1973 (16 U.S.C. 1531 et seq.).

Dated: August 12, 2004.
David P. Smith,
Acting Assistant Secretary for Fish and Wildlife and Parks.

[FR Doc. 04-18987 Filed 8-18-04; 8:45 am]

BILLING CODE 4310-55-P